ENVIRONMENTAL PROTECTION AGENCY

[EPA-HQ-OAR-2007-0482; FRL 9906-28-OAR]

Proposed Information Collection Request; Comment Request; Information Collection Activities Associated With SmartWay Transport Partnership

AGENCY: Environmental Protection Agency (EPA).

ACTION: Notice.

SUMMARY: The Environmental Protection Agency (EPA) is planning to submit an information collection request (ICR), “Information Collection Activities Associated with SmartWay Transport Partnership” (EPA ICR No. 2265.02, OMB Control No. 2060-0663 to the Office of Management and Budget (OMB) for review and approval in accordance with the Paperwork Reduction Act (PRA) (44 U.S.C. 3501 et seq.). Before doing so, EPA is soliciting public comments on specific aspects of the proposed information collection as described below. This is a proposed extension of the ICR, which is currently approved through May 31, 2014. An Agency may not conduct or sponsor and a person is not required to respond to a collection of information unless it displays a currently valid OMB control number.

DATES: Comments must be submitted on or before April 7, 2014.

ADDRESSES: Submit your comments, referencing Docket ID No. EPA-HQ-OAR-2007-0482 online using www.regulations.gov (our preferred method), by email to smartway_transport@epa.gov, or by mail to EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI), or other information whose disclosure is restricted by statute.

FOR FURTHER INFORMATION CONTACT: Patty Klavon, U.S. Environmental Protection Agency, 2000 Traverwood Drive, Ann Arbor, MI 48105; telephone number: 734-214-4476; Fax: 734-214-4052; email address: klavon.patty@epa.gov.

SUPPLEMENTARY INFORMATION: Supporting documents which explain in detail the information that the EPA will be collecting are available in the public docket for this ICR. The docket can be viewed online at www.regulations.gov or in person at the EPA Docket Center, WJC West Building, Room 3334, 1301 Constitution Ave. NW., Washington, DC 20004. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The EPA's Office of Air and Radiation (OAR) developed the SmartWay Transport Partnership (“SmartWay”) under directives outlined in Subtitle D of the Energy Policy Act of 2005 which calls on EPA to assess the energy and air quality impacts of activities within the freight industry. These activities include long-duration truck idling, the development and promotion of strategies for reducing idling, fuel consumption, and negative air quality effects. SmartWay's objectives also are consistent with the Federal Technology Transfer Act and other laws that support collaborative partnerships between government and industry.

SmartWay is open to organizations that own, operate, or contract with fleet operations, including truck and multi-modal carriers, logistics companies, and shippers. Organizations that do not operate fleets, but that are working to strengthen the freight industry, such as industry trade associations, state and local transportation agencies and environmental groups, also may join as SmartWay Affiliates. All organizations that join SmartWay are asked to provide EPA with information as part of their SmartWay registration to annually benchmark their transportation-related operations and improve the environmental performance of their freight activities.

A company joins SmartWay when it completes and submits a SmartWay Excel-based Partnership tool (“reporting tool”) to EPA. The data outputs from the submitted tool are used by Partners and SmartWay in several ways. First, the data provides confirmation that SmartWay Partners are meeting established objectives as in their Partnership Agreement. The reporting tool outputs enable EPA to assist SmartWay Partners in adjusting their commitments, as appropriate, and to update them with environmental performance and technology information that empower them to improve their efficiency. This information also improves EPA's knowledge and understanding of the environmental and energy impacts associated with goods movement, and the effectiveness of both proven and emerging strategies to lessen those impacts.

In addition to requesting annual transportation-related data, EPA may ask its SmartWay Partners for other kinds of information which could include opinions and test data on the effectiveness of new and emerging technology applications, sales volumes associated with SmartWay-recommended vehicle equipment and technologies, the reach and value of partnering with EPA through the SmartWay Partnership, and awareness of the SmartWay brand. In some instances, EPA might query other freight industry representatives (not just SmartWay Partners), including trade and professional associations, nonprofit environmental groups, energy, and community organizations, and universities, and a small sampling of the general public.

Form Numbers: None.

Respondents/Affected entities: Entities potentially affected by this action include private and public organizations that join the SmartWay Transport Partnership; freight industry representatives who engage in activities related to the SmartWay Partnership; and representative samplings of consumers in the general public. These entities may be affected by EPA efforts to assess the effectiveness and value of the SmartWay program, awareness of the SmartWay brand, and ideas for improving and developing SmartWay.

Respondent's obligation to respond: Voluntary.

Estimated number of Program respondents: 3,961.

Frequency of response: The information collections described in this ICR must be completed in order for an organization to register as or continue its status as a SmartWay Partner, to become a SmartWay Affiliate, to use the SmartWay logo on an EPA-designated tractor or trailer, or to be considered for a SmartWay Excellence Award.

Total estimated burden: The annual burden for this collection of information that all Respondent Partners incur is estimated to average 11,504 hours with a projected annual aggregate cost of $628,477. The annual burden for this collection of information that federal agency respondents incur is estimated to average 4,332 hours with a projected annual aggregate cost of $160,292.

This ICR estimates that approximately 2,901 Respondent partners will incur burden associated with SmartWay in the first year, with a growth of 314 Partners per year projected into the future. The estimated average burden time per Respondent is 2.90 hours annually. This is an average across all SmartWay Partners, regardless of whether they are Affiliates, shippers, carriers, or logistics companies. The average also includes 150 consumer and industry respondents who spend far less time, providing the SmartWay program with basic information on their awareness of the program. Among Respondent Partners, the burden hours are typically higher for larger companies with more complex fleets, than for smaller companies.

Burden means the total time, effort, or financial resources expended by persons to generate, maintain, retain, disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Total Estimated Cost: The total annual cost to all Respondent Partners is $628,477. The total annual cost to federal agency respondents is $160,292.

Changes in estimates: There is an increase of 3,203 hours in the total estimated Respondent Partner burden compared with the ICR currently approved by OMB. This increase reflects the following adjustments and program changes:

(1) Adjustments associated with increased interest in SmartWay, and thus, an increase in new annual Respondents and applications for the SmartWay Excellence Award, as well as robust Program retention practices, leading to increased number of Respondent partners reporting annually;

(2) Increased burden associated with the SmartWay Tractor & Trailer program; and,

(3) Reduced burden due to EPA's streamlined Partnership Annual Agreement process.

Dated: January 29, 2014.
Karl Simon,
Director, Transportation Climate Division, Office of Transportation and Air Quality.

[FR Doc. 2014-02575 Filed 2-5-14; 8:45 am]

BILLING CODE 6560-50-P